DEPARTMENT OF COMMERCE

National Oceanic and Atmospheric Administration

Notice of Availability for License and Intent To Grant an Exclusive Patent License

AGENCY: Office of Oceanic and Atmospheric Research, NOAA, DOC.

ACTION: Notice of availability for license and intent to grant an exclusive patent license.

SUMMARY: The Environmental Technology Laboratory, Oceanic and Atmospheric Research Laboratories, National Oceanic and Atmospheric Administration, Department of Commerce, intends to grant the Department of Fisheries and Oceans of the Canadian Government, an exclusive license to its undivided interest in U.S. Patent 4,760,743 entitled “Acoustic Scintillation Liquid Flow Measurement” which is jointly owned by the U.S. Department of Commerce and the Canadian Patents and Development Limited. The counterpart Canadian patent 1,254,649 is owned by the Canadian Government.

DATES: The proposed license may be granted unless written evidence and argument is received within 60 days from the publication of this notice, establishing that the grant of the license would not be consistent with 35 U.S.C. 209 and 37 CFR 404.7.

ADDRESSES: Any comments about or objections to the proposed license shall be mailed to John H. Raubitschek, Patent Counsel, Department of Commerce, Room 4613, Washington, DC 20230.

FOR FURTHER INFORMATION CONTACT: If there are any questions, Mr. John H. Raubitschek may be contacted at 202-482-8010.

Dated: December 15, 2000.
David L. Evans,
Assistant Administrator, Office of Oceanic and Atmospheric Research.

[FR Doc. 00-32728 Filed 12-21-00; 8:45 am]

BILLING CODE 3510-KD-M